DEPARTMENT OF COMMERCE

Foreign-Trade Zones Board

Order No. 1559

Reissuance of the Grant of Authority for Subzone 66C, Unifi, Inc., Yadkinville, North Carolina, (Docket 47-2007)

Pursuant to its authority under the Foreign-Trade Zones Act of June 18, 1934, as amended (19 U.S.C. 81a-81u), the Foreign-Trade Zones Board (the Board) adopts the following Order:

After consideration of the request with supporting documents (filed 9/18/2007) from the North Carolina Department of Commerce, grantee of FTZ 66, for the reissuance of the subzone grant of authority for the Unifi, Inc. facility in Yadkinville, North Carolina to the Piedmont Triad Partnership, Greensboro, North Carolina, grantee of Foreign-Trade Zone 230, which has joined in the request, the Board, finding that the requirements of the Foreign-Trade Zones Act, as amended, and the Board's regulations are satisfied, and that the proposal is in the public interest, approves the request and recognizes the Piedmont Triad Partnership as the new grantee of the Unifi, Inc. Subzone, which is hereby redesignated as Subzone 230B.

The approval is subject to the FTZ Act and the FTZ Board's regulations, including Section 400.28.

Signed at Washington, DC, this 20th day of May 2008

David M. Spooner,
Assistant Secretary of Commerce for Import Administration, Alternate Chairman, Foreign-Trade Zones Board.
Attest:
Pierre V. Duy,
Acting Executive Secretary.

[FR Doc. E8-12398 Filed 6-2-08; 8:45 am]

BILLING CODE 3510-DS-S